DEPARTMENT OF HEALTH AND HUMAN SERVICES

National Institutes of Health

National Institute on Minority Health and Health Disparities; Notice of Closed Meetings

Pursuant to section 10(d) of the Federal Advisory Committee Act, as amended, notice is hereby given of the following meetings.

The meetings will be closed to the public in accordance with the provisions set forth in sections 552b(c)(4) and 552b(c)(6), Title 5 U.S.C., as amended. The grant applications and the discussions could disclose confidential trade secrets or commercial property such as patentable materials, and personal information concerning individuals associated with the grant applications, the disclosure of which would constitute a clearly unwarranted invasion of personal privacy.

Name of Committee: National Institute on Minority Health and Health Disparities Special Emphasis Panel; Innovations for Health Living—Improving Minority Health and Eliminating Health Disparities.

Date: December 4, 2018.

Time: 9:00 a.m. to 6:00 p.m.

Agenda: To review and evaluate grant applications.

Place: National Institute on Minority Health and Health Disparities, 7201 Wisconsin Ave., Suite 525, Rm. 533K, Bethesda, MD 20814 (Telephone Conference Call).

Contact Person: Xinli Nan, Ph.D., Scientific Review Officer, National Institute on Minority Health and Health Disparities, National Institutes of Health, Scientific Review Branch, OERA, 7201 Wisconsin Ave., Suite 525, Bethesda, MD 20814, (301) 594-7784, Xinli.Nan@nih.gov.

Name of Committee: National Institute on Minority Health and Health Disparities Special Emphasis Panel; RCMI Research Coordinating Network (RRCN) (U54).

Date: December 12, 2018.

Time: 12:00 p.m. to 6:00 p.m.

Agenda: To review and evaluate grant applications.

Place: Gateway Building, 7201 Wisconsin Ave, Suite 533, Bethesda, MD 20814 (Virtual Meeting).

Contact Person: Maryline Laude-Sharp, Ph.D., Scientific Review Officer, National Institute on Minority Health and Health Disparities, National Institutes of Health, 7201 Wisconsin Ave., Bethesda, MD 20814, (301) 451-9536, mlaudesharp@nih.gov.

Name of Committee: National Institute on Minority Health and Health Disparities Special Emphasis Panel; Special Emphasis Panel for Review of Research Conference (R13) Grant Applications.

Date: December 10, 2018.

Time: 1:00 p.m. to 5:00 p.m.

Agenda: To review and evaluate grant applications.

Place: National Institutes of Health, Gateway Plaza, 7201 Wisconsin Avenue, Bethesda, MD 20817.

Contact Person: Deborah Ismond, Ph.D., Scientific Review Officer, Division of Scientific Programs, National Institute on Minority Health and Health Disparities, Gateway Plaza, 7201 Wisconsin Avenue, Bethesda, MD 20817, (301) 594-2704, ismonddr@mail.nih.gov.

Dated: October 25, 2018.
David D. Clary,
Program Analyst, Office of Federal Advisory Committee Policy.

[FR Doc. 2018-23738 Filed 10-30-18; 8:45 am]

BILLING CODE 4140-01-P